DEPARTMENT OF COMMERCE

International Trade Administration

AMBIT Applications and Questionnaires

ACTION: Proposed collection; comment request.

SUMMARY: The Department of Commerce, as part of its continuing effort to reduce paperwork and respondent burdens, invites the general public and other Federal agencies to take this opportunity to comment on the continuing information collections, as required by the Paperwork Reduction Act of 1995, Public Law 104-13 (44 U.S.C. 3506 (2)(A)).

DATES: Written comments must be submitted on or before August 31, 2004.

ADDRESSES: Direct all written comments to Diana Hynek, Departmental Paperwork Clearance Officer, Department of Commerce, Room 6625, 14th & Constitution Avenue, NW., Washington, DC 20230; Phone number: (202) 482-0266; e-mail: dHynek@doc.gov.

FOR FURTHER INFORMATION CONTACT: Request for additional information or copies of the information collection should be directed to: Erin Schumacher, SABIT, Department of Commerce, FCB 4100W, 14th Street & Constitution Avenue, NW., Washington, DC 20230, Phone number: (202) 482-0073; Fax number: (202) 482-2443, e-mail: Erin_Schumacher@ita.doc.gov.

SUPPLEMENTARY INFORMATION:

I. Abstract

The U.S. Department of Commerce's International Trade Administration, in collaboration with the International Fund for Ireland (IFI), has established the American Management & Business Internship Training (AMBIT) Program. AMBIT provides one-week to six-month training programs for managers and technical experts from Northern Ireland and the Border Counties of Ireland, thereby improving their skills while enhancing U.S. commercial opportunities in the region. AMBIT was launched in 1995 to demonstrate America's interest in supporting the peace process by encouraging economic development in Northern Ireland and the Six Border Counties of Ireland.

The U.S. Department of Commerce words in partnership with the IFI, an organization established in 1986 by the British and Irish Governments to promote economic/social progress and to encourage contact, dialog, and reconciliation in the region. The United States, the European Union, Canada, Australia, and New Zealand contribute to the IFI budget.

II. Method of Collection

Applications are sent to U.S. companies and intern candidates via facsimile, email or mail upon request by a delegated agency of the IFI. Feedback surveys are given to participating U.S. companies and interns at the completion of programs.

III. Data

OMB Number: 0625-0224.

Form Number: n/a.

Type of Review: Regular Submission.

Affected Public: Business or other non-profit, individuals (non-U.S. citizens).

Estimated Number of Respondents: 450.

Estimated Time Per Response: 1-3 hours.

Estimated Total Annual Burden Hours: 1050.

Estimated Total Annual Costs: $63,000.

IV. Request for Comments

Comments are invited on (a) whether the proposed collection of information is necessary for the proper performance of the functions of the agency, including whether the information shall have the practical utility; (b) the accuracy of the agency's estimate of the burden (including the hours and costs) of the proposed collection of information; (c) ways to enhance the quality, utility and clarity of the information to be collected; and (d) ways to minimize the burden of the collection of information on respondents, including through the use of automated collection techniques of forms of information technology.

Comments submitted in response to this notice will be summarized and/or included in the request for OMB approval of this information collection; they also will become a matter of public record.

Dated: June 28, 2004.
Madeleine Clayton,
Management Analyst, Office of the Chief Information Officer.

[FR Doc. 04-15009 Filed 7-1-04; 8:45 am]

BILLING CODE 3510-HE-P